ENVIRONMENTAL PROTECTION AGENCY

[FRL -7167-6]

EPA Science Advisory Board Metals Assessment Panel; Request for Nominations; EPA Science Advisory Board MARLAP Review Panel; Correction to Meeting Location; EPA Science Advisory Board Clean Air Scientific Advisory Committee; Advance Meeting Notification

1. Metals Assessment Panel; Request for Nominations

ACTION: Notice; request for nominations to serve on the Metals Assessment Panel of the U. S. Environmental Protection Agency's Science Advisory Board.

SUMMARY: The U.S. Environmental Protection Agency's (Agency, EPA) Science Advisory Board (SAB) is announcing the formation of a Metals Assessment Panel and is soliciting nominations of qualified individuals to serve on this Panel. The SAB was established to provide independent scientific and technical advice to the EPA Administrator on Agency positions; in this case advice on development of cross-Agency guidance for assessing certain hazards and risks for metals and metal compounds.

Any interested person or organization may nominate qualified individuals for membership on the Panel. Nominations (preferably in electronic format) should include the individual's name, occupation, position, qualifications to address the issue, and contact information (i.e., telephone number, fax number, mailing address, email, and/or Website). To be considered, all nominations must include a current resume (preferably electronic) providing information on the nominee's background, experience, and qualifications for this Panel.

Background

There has been considerable interest in the scientific assessments that the Agency conducts on metals and metal compounds. Discussions between the Agency and external stakeholders, as well as concerns expressed formally as part of the recent Toxics Release Inventory (TRI) lead rulemaking, have demonstrated the need for a more comprehensive, cross-Agency approach to metals assessments that can be applied to human health and ecological assessments. Therefore, the Agency is developing a Framework that will offer guidance for EPA programs to use when considering the various environmental properties of metals, such as persistence, bioaccumulation and toxicity, in assessing the hazards and risks of metals and metal compounds. As a first step in accomplishing this goal, the Agency is developing an Action Plan that

(a) Identifies the primary elements to be addressed in the assessment Framework,

(b) Proposes a structure for the Framework, and

(c) Sets out a process that will culminate in the production of the Framework, per se.

The Agency has asked the SAB to form a Panel to provide advice (i.e., generate an SAB Advisory) on the Action Plan and subsequently to review (i.e., generate an SAB Review) the Framework that will be developed over the coming year.

The SAB is negotiating a specific Charge to guide the Metals Assessment Panel consideration of the Action Plan. The specific questions that constitute the Charge provide general guidance to the nominators about the technical qualifications of individuals who are being sought to carry out the work of the Panel. It is anticipated that the Panel will contain experts who have proven knowledge of the toxicology of metals in humans and the environment, the transport and fate of metals in the environment, computer modeling of the behavior of metals in the environment, risk assessment of metals, and the technical issues that arise in applying these principles in a decision-making context.

The current version of the Charge follows, although details of the Charge may change as a result of ongoing discussions between the Agency and the Panel. Updates will be posted on the SAB Website: www.epa.gov/sab.

Tentative Charge to the Metals Assessment Panel of the SAB

Please comment on the soundness of the Action Plan, specifically focus on the following:

1. Please comment on the soundness of the proposed organizing principles for the Framework.

2. EPA has attempted to capture the major, cross-cutting scientific issues that are specific to assessing the hazard and risk of metals and metal compounds. Please comment on the scientific issues presented in the Action Plan. In particular, does the SAB concur that these are the major, cross-cutting issues of concern with respect to assessing hazard and risks of metals and metal compounds? If not, which issues would you add or delete from this list and why?

3. Has EPA adequately characterized the issues and does the SAB concur with the steps proposed for addressing these issues? Why or why not?

4. Can the SAB suggest priorities within the list of issues based on the state-of-the-science and the feasibility of developing guidance in the near term. Which issues should be the focus of longer-term research efforts?

5. Are there specific recommendations (including methods and models) for addressing these issues that are not captured by EPA's Action Plan?

6. Please comment on the feasibility of the proposed process for drafting the Framework. Do you consider the time line to be realistic? Are the measures being taken to involve the public adequate?

7. Please comment on the structure for the Framework. Is it clear and all inclusive?

Any interested person or organization may nominate qualified individuals for membership on the Panel. Nominations should include the individual's name, occupation, position, qualifications to address the issue, and contact information (i.e., telephone number, fax number, mailing address, email address, and/or Website). To be considered, all nominations must include a current resume (preferably electronic), providing the nominee's background, experience, and qualifications.

Nominations should be submitted (preferably in electronic format) to Ms. Stephanie Sanzone, Designated Federal Officer, EPA Science Advisory Board, U.S. Environmental Protection Agency (1400A), 1200 Pennsylvania Avenue, NW, Washington, DC 20460, telephone (202) 564-4561; FAX (202) 501-0323; e-mail at sanzone.stephanie@epa.gov no later than April 13, 2002. The Agency will not necessarily formally acknowledge or respond to nominations.

The nominations received through this solicitation will be combined with nominations obtained through other sources; e.g., the Agency, SAB members, and particular organizations. From this larger group of nominees (termed the “WIDECAST”), a smaller subset of candidates (the “Short List”) will be identified for more detailed consideration. The names of the Short List individuals, along with a short biosketch of each, will be posted on the SAB Website (www.epa.gov/sab). The public will have the opportunity to provide any information, analysis, and documentation—related to expertise, knowledge, scientific credibility, conflict-of-interest, possible lack of impartiality, experience, and skills working in committees and advisory panels—that they feel should be considered in the final Panel selection process. The public will also be asked to provide information, analysis, and documentation on their views of the Short List as it relates to questions of whether all necessary domains of knowledge are represented to conduct the review, whether all relevant scientific perspectives are included, and whether there is a sufficient range of experience to conduct a fully informed, credible technical review. Such data provided by the public will be considered, along with information collected by the SAB Staff (e.g., review of the candidates' resumes and confidential conflict of interest statements (OGE form 450) and conversation with the candidates), when the SAB Staff Director makes the final decisions on Panel membership from the Short List, in consultation with SAB leadership, as needed.

Panel members will be asked to attend at least one public meeting, possibly followed by a public teleconference meeting over the anticipated 3-month course of the activity. The Executive Committee (EC) of the SAB will critically review the Panel's report and reach a judgment about its transmittal to the Administrator.

2. MARLAP Review Panel; Correction to Meeting Location

The Multi-Agency Radiological Laboratory Analytical Protocols (MARLAP) Review Panel of the Radiation Advisory Committee (RAC) of the US EPA Science Advisory Board announced a meeting for April 23-25, 2002 (see 67 FR 11328-11330, March 13, 2002). The meeting location was given as EPA Hearing Room 1153 in the EPA East Headquarters Building, 1201 Pennsylvania Avenue, NW, Washington, DC 20004. The street address should read 1201 Constitution Avenue, NW, not 1201 Pennsylvania Avenue, NW. The other information given in the previous FR is correct.

3. Clean Air Scientific Advisory Committee; Advance Notification of Meetings

The Particulate Matter Review Panel of the Clean Air Scientific Advisory Committee (CASAC) will hold two meetings to review Agency draft documents concerned with the Particulate Matter National Ambient Air Quality Standards (NAAQS). The first meeting will be held on July 18-19, 2002 to review the draft Particulate Matter Criteria Document. The second meeting will be held on September 18-19, 2002 to review the Particulate Matter Staff Paper. Both meetings will be held in Research Triangle Park, NC. Details about these meetings will appear in a FR Notice approximately one month prior to each meeting. Availability of review documents will be posted separately in the FR approximately two months prior to each meeting. These FR Notices will contain contact information and information concerning how to provide comments to either EPA or to CASAC. For further information concerning these two planned meetings, please contact Mr. Robert Flaak, CASAC Designated Federal Officer at (202) 564-4546, flaak.robert@epa.gov or at US EPA Science Advisory Board, U.S. Environmental Protection Agency (1400A), 1200 Pennsylvania Avenue, NW, Washington, DC 20460.

General Information

Additional information concerning the EPA Science Advisory Board, its structure, function, and composition, may be found on the SAB Website (http://www.epa.gov/sab) and in the Science Advisory Board FY2000 Annual Staff Report which is available from the SAB Publications Staff at (202) 564-4533 or via fax at (202) 501-0256.

Dated: March 26, 2002.
Donald G. Barnes,
Staff Director, Science Advisory Board.

[FR Doc. 02-8065 Filed 4-2-02; 8:45 am]

BILLING CODE 6560-50-P